DEPARTMENT OF LABOR

Office of the Secretary

Combating Exploitive Child Labor Through Education in Sierra Leone and Liberia; Correction

AGENCY: Bureau of International Labor Affairs, Department of Labor.

ACTION: Correction.

SUMMARY: In notice document 05-10621 beginning on page 30805 in the issue of Friday, May 27, 2005, make the following correction:

On page 30805, in the second column, third sentence of Section II “Award Information”, the language, “The duration of the project(s) funded by this solicitation is four (4) years”, is incorrect. This sentence should be changed to read, “The duration of the project(s) funded by this solicitation must be between 30 months and 48 months.”

Dated: June 10, 2005.
Lisa Harvey,
Grant Officer.

[FR Doc. 05-11873 Filed 6-15-05; 8:45 am]

BILLING CODE 7510-28-M